DEPARTMENT OF COMMERCE

National Oceanic and Atmospheric Administration

50 CFR Part 648

[I.D. 020402B]

New England Fishery Management Council; Public Meeting

AGENCY: National Marine Fisheries Service (NMFS), National Oceanic and Atmospheric Administration (NOAA), Commerce.

ACTION: Public meeting.

SUMMARY: The New England Fishery Management Council (Council) will hold a 2-day Council meeting on February 26 and 27, 2002, to consider actions affecting New England fisheries in the U.S. exclusive economic zone (EEZ).

DATES: The meeting will be held on Tuesday and Wednesday, February 26 and 27, 2002. The meeting will begin at 9:00 a.m. on Tuesday and 8:30 a.m. on Wednesday.

ADDRESSES: The meeting will be held at the Sheraton Ferncroft Hotel, 50 Ferncroft Road, Danvers, MA 01923; telephone (978) 777-2500. Requests for special accommodations should be addressed to the New England Fishery Management Council, 50 Water Street, Mill 2, Newburyport, MA 01950; telephone (978) 465-0492.

FOR FURTHER INFORMATION CONTACT: Paul J. Howard, Executive Director, New England Fishery Management Council, (978) 465-0492.

SUPPLEMENTARY INFORMATION:

Tuesday, February 26, 2002

Following introductions, the Council will consider final adoption of the Deep-Sea Red Crab Fishery Management Plan (FMP) documents, including a description of measures, draft regulations, and summary of impacts. The FMP contains measures to implement a controlled access program for the directed red crab fishery, a target total allowable catch level, days-at-sea limits, trip limits, and trap limits for vessels in the controlled access program. If adopted by the Council, the FMP will be forwarded to the Secretary of Commerce for consideration. The Skate Committee will ask for approval of the Draft Skate FMP and Draft Environmental Impact Statement, including the identification of preferred alternatives and a public hearing document. The discussion will include review and approval of the Habitat Committee's recommendations for the designation of skate Essential Fish Habitat.

Following these reports, the Council will discuss the possibility of future action concerning the scheduled annual review of the status of whiting stocks and the effectiveness of whiting management measures. These issues will be discussed in the context of the 2003 whiting default measures in the Northeast Multispecies FMP and whether action is necessary to revise those measures. The Council’s Research Steering Committee will provide a brief update on its most recent activities. The Scallop Committee intends to ask for approval of additional management alternatives to be included in Draft Amendment 10 to the Atlantic Sea Scallop FMP and analyzed in the Draft Supplemental Environmental Impact Statement. Primary issues include alternatives to minimize bycatch and minimize adverse impacts on habitat in the sea scallop fishery. Prior to adjourning for the day, the Council will review and possibly approve a proposal to improve the enforceability of measures to address operator permit sanctions. The Council is considering endorsing an action that would hold fishing boat owners and operators responsible for individuals onboard vessels who are known by the owners or operators to have had their operator’s permit suspended or revoked because of fishing violations.

Wednesday, February 27, 2002

The remainder of the Council meeting will focus on addressing issues associated with Amendment 13 to the Northeast Multispecies FMP. These include a review of events associated with recent litigation, a possible consideration and approval of groundfish status determination criteria for use in Amendment 13, the approval of Amendment 13 goals and objectives and the approval of Groundfish Committee recommendations for an amendment development process.

Although other non-emergency issues not contained in this agenda may come before this Council for discussion, those issues may not be the subjects of formal action during this meeting. Council action will be restricted to those issues specifically listed in this notice and any issues arising after publication of this notice that require emergency action under section 305(c) of the Magnuson-Stevens Fishery Conservation and Management Act, provided that the public has been notified of the Council's intent to take final action to address the emergency.

The New England Council will consider public comments at a minimum of two Council meetings before making recommendations to the NMFS Regional Administrator on any framework adjustment to a fishery management plan. If the Regional Administrator concurs with the adjustment proposed by the Council, the Regional Administrator may publish the action either as proposed or final regulations in the Federal Register. Documents pertaining to framework adjustments are available for public review 7 days prior to a final vote by the Council.

Special Accommodations

This meeting is physically accessible to people with disabilities. Requests for sign language interpretation or other auxiliary aids should be directed to Paul J. Howard (see ADDRESSES) at least 5 days prior to the meeting date.

Dated: February 7, 2002.
Bruce C. Morehead,
Acting Director, Office of Sustainable Fisheries, National Marine Fisheries Service.

[FR Doc. 02-3488 Filed 2-8-02; 12:33 pm]

BILLING CODE 3510-22-S